DEPARTMENT OF COMMERCE

National Oceanic and Atmospheric Administration

[RTID 0648-XV126]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Southeast Data, Assessment, and Review (SEDAR) Committee (Partially Closed Session); Executive Finance Committee; Shrimp Committee; Advisory Panel Selection Committee (Closed Session); Citizen Science Committee; Dolphin Wahoo Committee; Mackerel Cobia Committee; Snapper Grouper Committee; and Personnel Committee (Closed Session). The Council meeting week will include a formal public comment period and a meeting of the full Council.

DATES: The Council meeting will be held from 1:30 p.m. on Monday, December 2, 2019 until 1 p.m. on Friday, December 6, 2019.

ADDRESSES:

Meeting address: The meeting will be held at the Hotel Ballast, 301 North Water Street, Wilmington, NC 28401; phone: (910) 763-5900.

Council address: South Atlantic Fishery Management Council, 4055 Faber Place Drive, Suite 201, N Charleston, SC 29405.

FOR FURTHER INFORMATION CONTACT: Kim Iverson, Public Information Officer, SAFMC; phone: (843) 302-8440 or toll free (866) SAFMC-10; fax: (843) 769-4520; email: kim.iverson@safmc.net. Meeting information is available from the Council's website at: http://safmc.net/safmc-meetings/council-meetings/.

SUPPLEMENTARY INFORMATION: Public comment: Written comments may be directed to Gregg Waugh, Executive Director, South Atlantic Fishery Management Council (see Council address) or electronically via the Council's website at http://safmc.net/safmc-meetings/council-meetings/. Comments received by close of business the Monday before the meeting (11/25/19) will be compiled, posted to the website as part of the meeting materials, and included in the administrative record; please use the Council's online form available from the website. For written comments received after the Monday before the meeting (after 11/25/19), individuals submitting a comment must use the Council's online form available from the website. Comments will automatically be posted to the website and available for Council consideration. Comments received prior to noon on Thursday, December 5, 2019 will be a part of the meeting administrative record.

The items of discussion in the individual meeting agendas are as follows:

SEDAR Committee (Partially Closed Session)—Monday, December 2, 2019, 1:30 p.m. Until 2:30 p.m.

1. Closed Session: The Committee will review appointments for upcoming assessments and provide recommendations for Council consideration. The Committee will also receive updates on the Council's Scientific and Statistical Committee (SSC) and advisory panel participation in the SEDAR process.

2. The meeting will continue in Open Session. The Committee will receive an update on SEDAR activities, a report from the Council's SSC, and approve the Terms of Reference and schedule for the SEDAR 71 stock assessment for South Atlantic gag grouper.

3. The Committee will also review and approve the SEDAR Scope of Work for 2022 Stock Assessments and provide recommendations for Council approval.

Executive Finance Committee—Monday, December 2, 2019, 2:30 p.m. Until 4 p.m.

1. The Committee will receive a report from the November 2019 meeting of the Council Coordination Committee (CCC), discuss and provide guidance to staff.

2. The Committee will receive a report from the October 2019 Executive Finance Committee meeting, review and take action as needed.

3. The Committee will review the Council's Follow-up document and Prioritization Schedule for work on amendments, discuss and provide guidance to staff.

4. The Committee will review documents from NOAA Fisheries currently open for review by the Council and take action as needed.

Shrimp Committee, Monday, December 2, 2019, 4 p.m. Until 5 p.m.

1. The Committee will review draft Amendment 11 to the Shrimp Fishery Management Plan (FMP) addressing transit provisions, discuss and consider approval for public hearings.

2. The Committee will also receive input from the Shrimp Advisory Panel on changes proposed for the Florida Keys National Marine Sanctuary.

Advisory Panel Selection Committee (Closed Session), Tuesday, December 3, 2019, 8 a.m. Until 10 a.m.

1. The Committee will review applications for open seats on the Councils advisory panels and provide recommendations for Council consideration.

Citizen Science Committee, Tuesday, December 3, 2019, 10 a.m. Until 12 p.m.

1. The Committee will receive program and project updates including 2019 activities and updates on the program's pilot projects, SAFMC Scamp Release and FISH story.

2. The Committee will also review updated Research Priorities for the Citizen Science Program, discuss and consider for adoption.

3. The Committee will receive an overview and presentation on program evaluation, discuss, and provide guidance and recommendations as needed. The Committee will also receive a presentation on the role of program infrastructure, discuss and take action as needed.

Dolphin Wahoo Committee, Tuesday, December 3, 2019, 1:30 p.m. Until 5:30 p.m. and Wednesday, December 4, 2019, 8:00 a.m. Until 12:00 p.m.

1. The Committee will receive updates from NOAA Fisheries on the status of commercial and recreational catches versus annual catch limits (ACLs).

2. The Committee will review the goals and objectives of the Dolphin Wahoo FMP and provide guidance to staff. The Committee will also review Amendment 10 to the Dolphin Wahoo FMP. Draft Amendment 10 currently includes 17 actions to address current needs in the fishery. These actions fall under four main areas of focus: (1) Actions to accommodate revised recreational data; (2) Actions that define Optimum Yield in the dolphin fishery; (3) Actions that accommodate adaptive management of sector ACLs and change accountability measures; and (4) Actions that implement miscellaneous management revisions in the dolphin and wahoo fisheries. The Committee will continue its review of actions in the draft amendment and consider approving for public scoping.

3. The Committee will review draft Amendment 12 to the Dolphin Wahoo FMP with measures to add bullet mackerel and frigate mackerel as Ecosystem Component species to the Dolphin Wahoo FMP, consider appropriate regulatory actions, and provide guidance to staff. The Committee will also receive input from the Advisory Panel on changes proposed for the Florida Keys National Marine Sanctuary.

Mackerel Cobia Committee, Wednesday, December 4, 2019, 1:30 p.m. Until 3:50 p.m.

1. The Committee will receive an update on the status of commercial and recreational catches versus ACLs and the status of amendments under formal Secretarial review.

2. The Committee will receive a report from the Mackerel Cobia Advisory Panel, discuss and provide recommendations as appropriate.

3. The Committee will receive an overview of Framework Amendment 8 to the Coastal Migratory Pelagic FMP addressing king mackerel commercial trip limits in Season 2 in the Atlantic Southern Zone, review public hearing comments, and provide recommendations for final approval.

4. The Committee will review draft Framework Amendment 9 with actions to revise accountability measures to address Spanish mackerel closures in the Atlantic Northern Zone. The Committee will review analyses, select preferred alternatives and consider approving for public hearings.

5. The Committee will also receive input from the Advisory Panel on changes proposed for the Florida Keys National Marine Sanctuary.

Formal Public Comment, Wednesday, December 4, 2019, 4 p.m.

Public comment will be accepted on items on the Council meeting agenda scheduled to be approved for Secretarial Review: Snapper Grouper Regulatory Amendment 33 (red snapper fishing seasons); Coastal Migratory Pelagics Framework Amendment 8 (king mackerel trip limits); and Snapper Grouper Abbreviated Framework 3 (blueline tilefish). Public comment will also be accepted on items for scoping/public hearings and all other agenda items. The Council Chair, based on the number of individuals wishing to comment, will determine the amount of time provided to each commenter.

Snapper Grouper Committee, Thursday, December 5, 2019, 8 a.m. Until 12 p.m.

1. The Committee will receive updates from NOAA Fisheries on commercial and recreational catches for species under ACLs and the status of amendments under formal Secretarial review.

2. The Committee will receive a report from the SSC on issues relative to the management of snapper grouper species and a report from the Snapper Grouper Advisory Panel.

3. The Committee will receive an overview of Snapper Grouper Abbreviated Framework Amendment 3 addressing management of blueline tilefish and consider final approval for Secretarial review.

5. The Committee will receive an update on the Southeast Reef Fish Survey (SERFS) for red snapper that includes 2019 data.

6. The Committee will review Snapper Grouper Regulatory Amendment 33 addressing season modifications for red snapper and consider final approval.

7. The Committee will review draft Snapper Grouper Regulatory Amendment 31 addressing recreational accountability measures and provide guidance.

8. The Committee will receive a summary of outreach efforts for best fishing practices and take action as needed.

9. The Committee will receive a report from the System Management Plan Workgroup and an overview of input received from the Snapper Grouper Advisory Panel regarding proposed changes to the Florida Keys National Marine Sanctuary.

Personnel Committee, Thursday, December 5, 2019, 1:30 p.m. Until 3:30 p.m. (Closed Session)

1. The Committee will address the Executive Director's review and Council comments on documents, procedures, etc. and guidance for 2020.

Council Session: Thursday, December 5, 2019, 3:30 p.m. Until 5:30 p.m. and Friday, December 6, 2019, 8 a.m. Until 1 p.m.

The Full Council will begin with the Call to Order, adoption of the agenda, and approval of minutes.

The Council will receive a presentation on proposed changes to the Florida Keys National Marine Sanctuary. Staff will provide a summary of input received from the Council's advisory panels regarding the proposed changes and provide the Council with an overview of required actions.

The Council will receive staff reports including the Executive Director's Report and updates on the MyFishCount recreational reporting pilot program.

Updates will be provided by NOAA Fisheries including a report on the status of commercial and recreational catches versus ACLs for species not covered during an earlier committee meeting, data-related reports (for-hire amendment and bycatch), protected resources, and a presentation on the status of the of the Commercial Electronic Logbook Program. The Council will discuss and take action as necessary.

The Council will review any Exempted Fishing Permits received as necessary and review proposed changes to the Florida Keys National Marine Sanctuary and take action as appropriate.

The Council will receive reports from the following committees: Snapper Grouper; Mackerel Cobia; Dolphin Wahoo; Shrimp; SEDAR, Advisory Panel Selection; Citizen Science; Executive Finance; and Personnel. The Council will take action as appropriate.

The Council will receive agency and liaison reports; and discuss other business and upcoming meetings and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 6, 2019.
Tracey L. Thompson,
Acting Deputy Director, Office of Sustainable Fisheries, National Marine Fisheries Service.

[FR Doc. 2019-24592 Filed 11-8-19; 8:45 am]

BILLING CODE 3510-22-P